DEPARTMENT OF AGRICULTURE

Foreign Agricultural Service

Notice of Request for Extension of Currently Approved Information Collection

AGENCY: Foreign Agricultural Service, USDA.

ACTION: Notice and request for comments.

SUMMARY: In accordance with the Paperwork Reduction Act of 1995, this notice announces the intention of the Foreign Agricultural Service (FAS) to request an extension of a currently approved information collection for the USDA Local and Regional Food Aid Procurement Program.

DATES: Comments on this notice must be received by January 17, 2020.

ADDRESSES: FAS invites interested persons to submit comments by any of the following methods:

• Federal eRulemaking Portal: http://www/regulations.gov. Follow the instructions for submitting comments.

• Mail: Director, Food Assistance Division, Foreign Agricultural Service, U.S. Department of Agriculture, 1400 Independence Avenue SW, Room 4159, Mailstop 1034, Washington, DC 20250. Comments may also be sent to the Desk Officer for Agriculture, Office of Information and Regulatory Affairs, Office of Management and Budget (OMB), Washington, DC 20503.

• Email: FAD_Contact@usda.gov. Include the document number in the subject line of the message.

Instructions: All submissions received must include the agency name and document number for this notice. All comments received will be posted without change to http://www/regulations.gov, including any personal information provided. Persons with disabilities who require an alternative means for communication of information (e.g., Braille, large print, audiotape, etc.) should contact USDA's Target Center at (202) 720-2600 (voice and TDD).

FOR FURTHER INFORMATION CONTACT: Benjamin Muskovitz, (202) 720-4221 or FAD_Contact@FAS.usda.gov.

SUPPLEMENTARY INFORMATION: Title: USDA Local and Regional Food Aid Procurement Program.

OMB Number: 0551-0046.

Expiration Date of Approval: February 29, 2020.

Type of Request: Extension of a currently approved information collection.

Abstract: Under the USDA Local and Regional Food Aid Procurement Program, information will be gathered from applicants desiring to receive federal awards under the program to determine the viability of requests for resources to implement activities in foreign countries. Recipients of awards under the program must submit performance and financial reports until funds provided by FAS and commodities purchased with such funds are utilized. Documents are used to develop effective grant or cooperative agreements for awards under the program and assure that statutory requirements and program objectives are met.

Estimate of Burden: The public reporting burden for each respondent resulting from information collection under the USDA Local and Regional Food Aid Procurement Program varies in direct relation to the number and type of agreements entered into by such respondent. The estimated average reporting burden for the USDA Local and Regional Food Aid Procurement Program is 78 hours per response.

Type of Respondents: Private voluntary organizations, cooperatives, and intergovernmental organizations.

Estimated Number of Respondents: 22 per annum.

Estimated Number of Responses per Respondent: 17 per annum.

Estimated Total Annual Burden of Respondents: 29,172 hours.

Request for Comments: Send comments regarding (a) whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology. Comments will be summarized and included in the submission for Office of Management and Budget approval.

Copies of this information collection can be obtained from Connie Ehrhart, the Agency Information Collection Coordinator, at (202) 690-1578 or email at Connie.Ehrhart@usda.gov.

E-Government Act Compliance

FAS is committed to complying with the E-Government Act of 2002, to promote the use of the internet and other information technologies to provide increased opportunities for citizen access to Government information and services, and for other purposes.

Dated: October 23, 2019.
Ken Isley,
Administrator, Foreign Agricultural Service.

[FR Doc. 2019-24893 Filed 11-15-19; 8:45 am]

BILLING CODE 3410-10-P